FEDERAL TRADE COMMISSION

16 CFR Part 310

RIN 3084-AA98

Telemarketing Sales Rule Fees

AGENCY: Federal Trade Commission.

ACTION: Final rule.

SUMMARY: The Federal Trade Commission (“Commission”) is amending its Telemarketing Sales Rule (“TSR”) by updating the fees charged to entities accessing the National Do Not Call Registry (“Registry”) as required by the Do-Not-Call Registry Fee Extension Act of 2007.

DATES: This rule is effective October 1, 2024.

ADDRESSES: Copies of this document are available on the internet at the Commission's website: https://www.ftc.gov.

FOR FURTHER INFORMATION CONTACT: Ami Joy Dziekan, (202) 326-2648, Bureau of Consumer Protection, Federal Trade Commission, 600 Pennsylvania Avenue NW, Washington, DC 20580.

SUPPLEMENTARY INFORMATION: To comply with the Do-Not-Call Registry Fee Extension Act of 2007 (Pub. L. 110-188, 122 Stat. 635, codified at 15 U.S.C. 6152) (“Act”), the Commission is amending the TSR, which is contained in 16 CFR part 310, by updating the fees entities are charged for accessing the Registry. Specifically, the revised rule increases (1) the annual fee for access to the Registry for each area code of data from $78 to $80 per area code, and (2) the maximum amount that will be charged to any single entity for accessing area codes of data from $21,402 to $22,038. Entities may add area codes during the second six months of their annual subscription period, and the fee for those additional area codes increases from $39 to $40.

These increases are in accordance with the Act, which specifies that beginning after fiscal year 2009, the dollar amounts charged shall be increased by an amount equal to the amounts specified in the Act, multiplied by the percentage (if any) by which the average of the monthly consumer price index (for all urban consumers published by the Department of Labor) (“CPI”) for the most recently ended 12-month period ending on June 30 exceeds the CPI for the 12-month period ending June 30, 2008. The Act also states that any increase shall be rounded to the nearest dollar and that there shall be no increase in the dollar amounts if the change in the CPI since the last fee increase is less than one percent. For fiscal year 2009, the Act specified that the original annual fee for access to the Registry for each area code of data was $54 per area code, or $27 per area code of data during the second six months of an entity's annual subscription period, and that the maximum amount that would be charged to any single entity for accessing area codes of data would be $14,850.

The determination of whether a fee change is required and the amount of the fee changes involves a two-step process. First, to determine whether a fee change is required, we measure the change in the CPI from the time of the previous increase in fees. There was an increase in the fees for fiscal year 2024. Accordingly, we calculated the change in the CPI since last year, and the increase was 3.0 percent. Because this change is over the one percent threshold, the fees will change for fiscal year 2025.

Second, to determine how much the fees should increase this fiscal year, we use the calculation specified by the Act set forth above: the percentage change in the baseline CPI applied to the original fees for fiscal year 2009. The average value of the CPI for July 1, 2007, to June 30, 2008, was 211.702; the average value for July 1, 2023, to June 30, 2024, was 314.145, an increase of 48.40 percent. Applying the 48.40 percent increase to the base amount from fiscal year 2009, leads to a $80 fee for access to a single area code of data for a full year for fiscal year 2025, an increase of $2 from last year. The actual amount is $80.14 but when rounded, pursuant to the Act, $80 is the appropriate fee. The fee for accessing an additional area code for a half year increases by one dollar to $40 (rounded from $40.07. The maximum amount charged increases to $22,038 (rounded from $22,038.05).

Administrative Procedure Act; Regulatory Flexibility Act; Paperwork Reduction Act

Under the Administrative Procedure Act (5 U.S.C. 553(b)), an agency may waive the normal notice and comment requirements if it finds, for good cause, that they are impracticable, unnecessary, or contrary to the public interest. The fee adjustments set forth in this final rule are mandated by the Do-Not-Call Registry Fee Extension Act of 2007. Accordingly, the amendments to the TSR are merely technical in nature, making notice and comment unnecessary and contrary to the public interest. See 5 U.S.C. 553(b). For this reason, the requirements of the Regulatory Flexibility Act also do not apply. See 5 U.S.C. 603, 604.

Pursuant to the Paperwork Reduction Act, 44 U.S.C. 3501-3521, the Office of Management and Budget (“OMB”) approved the information collection requirements in the TSR and assigned the following existing OMB Control Number: 3084-0169. The amendments outlined in this final rule pertain only to the fee provision (§ 310.8) of the TSR and will not establish or alter any record keeping, reporting, or third-party disclosure requirements elsewhere in the TSR.

List of Subjects in 16 CFR Part 310

Advertising, Consumer protection, Reporting and recordkeeping requirements, Telephone, Trade practices.

Accordingly, the Federal Trade Commission amends part 310 of title 16 of the Code of Federal Regulations as follows:

PART 310—TELEMARKETING SALES RULE

1. The authority citation for part 310 continues to read as follows:

Authority: 15 U.S.C. 6101-6108.

§ 310.8 [Amended]

2. In § 310.8:

a. Revise paragraph (c) by:

i. Removing “$78” and adding “$80” in its place; and

ii. Removing “$21,402” and adding “$22,038” in its place;

b. Revise paragraph (d) by:

i. Removing “$78” and adding “$80” in its place; and

ii. Removing “$39” and adding “$40” in its place.

By direction of the Commission.
April J. Tabor,
Secretary.

[FR Doc. 2024-19431 Filed 8-28-24; 8:45 am]

BILLING CODE 6750-01-P